DEPARTMENT OF HEALTH AND HUMAN SERVICES

Centers for Disease Control and Prevention

Reorganization of the Office of Financial Resources

AGENCY: Centers for Disease Control and Prevention (CDC), the Department of Health and Human Services (HHS).

ACTION: Notice.

SUMMARY: CDC has modified its structure. This notice announces the reorganization of the Office of Financial Resources (OFR). OFR established an activity in the Office of the Director, established two branches, and renamed existing branches within the Office of Acquisition Services.

DATES: This reorganization was approved by the Director of CDC on June 28, 2023.

FOR FURTHER INFORMATION CONTACT: Kimberly Thurmond, Office of the Chief Operating Officer, Office of the Director, Centers for Disease Control and Prevention, 1600 Clifton Road NE, MS TW-2, Atlanta, GA 30329. Telephone 770-488-4401; Email: reorgs@cdc.gov.

SUPPLEMENTARY INFORMATION: Part C (Centers for Disease Control and Prevention) of the Statement of Organization, Functions, and Delegations of Authority of the Department of Health and Human Services (45 FR 67772-76, dated October 14, 1980, and corrected at 45 FR 69296, October 20, 1980, as amended most recently at 88 FR 9290-9291, dated February 13, 2023) is amended to reflect the reorganization of the Office of Financial Resources within the Office of the Chief Operating Officer, Centers for Disease Control and Prevention. Specifically, the changes are as follows:

I. Under Part C, Section C-B, Organization and Functions, add the following:

Office of Risk Management and Internal Control (CAJE18). (1) provides systematic, disciplined approach to evaluate and improve the effectiveness of risk management, internal controls, and grant audit resolution; (2) maintains adherence to rules with all applicable Federal agencies on compliance activities associated with financial management, grants, and acquisitions functions; (3) plans, develops, and implements programs as appropriate to evaluate policies, procedures, and practices; (4) provides leadership, direction, guidance, and coordination on audits; (5) establishes priorities in resolving issues while providing exemplary customer service to our CDC partners; and (6) develops Annual Quality Assurance Plans.

Acquisition Branch 5 (CAJEWG). (1) plans, directs, and conducts acquisition of services, supplies, equipment, research and development, studies, and data collection for CDC through a variety of contractual mechanisms (competitive and non-competitive) to support CDC's national and international public health operations utilizing a wide variety of contract types and pricing arrangements; (2) works closely with Centers, Institute, and Offices (CIOs) in carrying out their public health missions; (3) provides leadership, direction, procurement options, and approaches in developing specifications/statements of work and contract awards; (4) reviews statements of work to ensure conformity with laws, regulations, policies, and alignment to CDC's public health goals; (5) negotiates and issues contracts; (6) directs and controls acquisition planning activities; (7) provides continuing surveillance of financial and administrative aspects of acquisition-supported activities to ensure compliance with HHS and CDC policies; (8) coordinates and negotiates contract modifications, reviewing and approving contractor billings, resolving audit findings, and performing closeout/termination activities; (9) assures that contractor performance is in accordance with contractual commitments; and (10) identifies and mitigates risks associated with contracts and purchase orders.

Acquisition Branch 6 (CAJEWH). (1) plans, directs, and conducts acquisition of services, supplies, equipment, research and development, studies, and data collection for CDC through a variety of contractual mechanisms (competitive and non-competitive) to support CDC's national and international public health operations utilizing a wide variety of contract types and pricing arrangements; (2) works closely with CIOs in carrying out their public health missions; (3) provides leadership, direction, procurement options, and approaches in developing specifications/statements of work and contract awards; (4) reviews statements of work to ensure conformity with laws, regulations, policies, and alignment to CDC's public health goals; (5) negotiates and issues contracts; (6) directs and controls acquisition planning activities; (7) provides continuing surveillance of financial and administrative aspects of acquisition-supported activities to ensure compliance with HHS and CDC policies; (8) coordinates and negotiates contract modifications, reviewing and approving contractor billings, resolving audit findings, and performing closeout/termination activities; (9) assures that contractor performance is in accordance with contractual commitments; and (10) identifies and mitigates risks associated with contracts and purchase orders.

II. Under Part C, Section C-B, Organization and Functions, retitle the following organizational units:

• Infectious Disease and International Acquisition Branch to Acquisition Branch 1 (CAJEWB)

• Chronic Disease, Preparedness, Surveillance, and Environmental Acquisition Branch to Acquisition Branch 2 (CAJEWC)

• CDC-Wide, Business Services, and Office of the Director Acquisition Branch to Acquisition Branch 3 (CAJEWD)

• Occupational Safety and Health, Simplified Acquisition Branch to Acquisition Branch 4 (CAJEWE)

III. Under Part C, Section C-B, Organization and Functions, delete the mission or functional statements for and replace with the following:

Office of Acquisition Services (CAJEW). (1) provides leadership for operations and policies relating to agency-level acquisition functions; (2) plans and develops CDC-wide policies, procedures, and practices in acquisition to support public health science and programs; and (3) maintains a continuing program of reviews, evaluations, inquiries, and oversight activities of CDC-wide acquisitions and assistance to ensure adherence to laws, policies, procedures, regulations, and alignment to CDC's public health goals.

Acquisition Branch 1 (CAJEWB). (1) plans, directs, and conducts acquisition of services, supplies, equipment, research and development, studies, and data collection for CDC through a variety of contractual mechanisms (competitive and non-competitive) to support CDC's national and international public health operations utilizing a wide variety of contract types and pricing arrangements; (2) works closely with CIOs in carrying out their public health missions; (3) provides leadership, direction, procurement options, and approaches in developing specifications/statements of work and contract awards; (4) reviews statements of work to ensure conformity with laws, regulations, policies, and alignment to CDC's public health goals; (5) negotiates and issues contracts; (6) directs and controls acquisition planning activities; (7) provides continuing surveillance of financial and administrative aspects of acquisition-supported activities to ensure compliance with HHS and CDC policies; (8) coordinates and negotiates contract modifications, reviewing and approving contractor billings, resolving audit findings, and performing closeout/termination activities; (9) assures that contractor performance is in accordance with contractual commitments; and (10) identifies and mitigates risks associated with contracts and purchase orders.

Delegations of Authority

All delegations and redelegations of authority made to officials and employees of affected organizational components will continue in them or their successors pending further redelegation, provided they are consistent with this reorganization.

(Authority: 44 U.S.C. 3101)

Robin D. Bailey, Jr.,
Chief Operating Officer, Centers for Disease Control and Prevention.

[FR Doc. 2023-14694 Filed 7-11-23; 8:45 am]

BILLING CODE 4163-18-P